DEPARTMENT OF HEALTH AND HUMAN SERVICES

Administration for Children and Families

Submission for OMB Review; Early Care and Education Leadership Study (ExCELS) Descriptive Study (New Collection)

AGENCY: Office of Planning, Research, and Evaluation, Administration for Children and Families, HHS.

ACTION: Request for public comment.

SUMMARY: The Office of Planning, Research, and Evaluation (OPRE) within the Administration for Children and Families (ACF) at the U.S. Department of Health and Human Services (DHHS) seeks approval to collect information for the Early Care and Education Leadership Study (ExCELS) Descriptive Study.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ExCELS Descriptive Study is a new information collection to learn about what leadership looks like in center-based early care and education settings serving children whose ages range from birth to age 5, but not yet in kindergarten, and better understand how leadership might improve center quality and outcomes for staff, children, and families. The goals of ExCELS are to (1) develop a short-form measure of early care and education leadership that has strong psychometric properties, and (2) examine empirical support for the associations among key constructs and outcomes in the study's theory of change of early care and education leadership for quality improvement. The study will recruit 120 centers that receive funding from Head Start or the Child Care and Development Fund, ask the primary site leader at the centers to participate in two interviews, and distribute surveys to select center managers and all teaching staff to test hypothesized associations between leadership constructs and outcomes in the study's theory of change.

Respondents: Management and teaching staff from center-based early care and education settings that receive funding from Head Start or the Child Care and Development Fund.

Annual Burden Estimates
Instrument | Number of respondents (total over request period) | Number of responses per respondent (total over request period) | Avg. burden per response (in hours) | Total burden (in hours) | Annual burden (in hours)
Center recruitment call script | 180 | 1 | .33 | 59 | 30
Umbrella organization recruitment approval call script | 113 | 1 | .33 | 37 | 19
Engagement interview guide | 150 | 1 | .33 | 50 | 25
Staffing structure and leadership positions interview guide | 120 | 1 | .50 | 60 | 30
Teaching staff roster | 120 | 1 | .25 | 30 | 15
Center manager survey | 240 | 1 | .42 | 101 | 51
Teaching staff survey | 1,680 | 1 | 1 | 1,680 | 840

Estimated Total Annual Burden Hours: 1,010.

Authority: Authorized by the Head Start Act section 640 [42 U.S.C. 9835] and section 649 [42 U.S.C. 9844]; appropriated by the Continuing Appropriations Act of 2019; the Child Care and Development Block Grant Act of 1990 section 658O [42 U.S.C. 9858], which also provides authority to use this discretionary funding for research; appropriated by the Continuing Appropriations Act of 2019; and the Child Care and Development Block Grant (CCDBG) Act of 1990 as amended by the CCDBG Act of 2014 (Pub. L. 113-186).

Mary B. Jones,
ACF/OPRE Certifying Officer.

[FR Doc. 2021-17260 Filed 8-11-21; 8:45 am]

BILLING CODE 4184-22-P